DEPARTMENT OF THE INTERIOR

National Park Service

36 CFR Part 51

RIN 1024-AC72

Concession Contracts

AGENCY: National Park Service, Interior.

ACTION: Technical corrections.

SUMMARY: This action makes technical corrections to regulations concerning the determination of a preferred offeror to correct a typographical error and to delete confusing and unnecessary provisions.

EFFECTIVE DATE: September 7, 2000.

FOR FURTHER INFORMATION CONTACT: Wendelin Mann, Concession Program, National Park Service, 1849 C Street, NW., Washington, DC 20240 (202/565-1219).

SUPPLEMENTARY INFORMATION: The National Park Service published in final in the Federal Register on April 17, 2000 (65 FR 20630), an amendment to 36 CFR part 51 to reflect the changes in policies and procedures applicable to National Park Service concession contracts resulting from the passage of Title IV of the National Parks Omnibus Management Act of 1998 (Pub. L. 105-391).

Section 51.40(c) has been determined by the National Park Service to be confusing and unnecessary in light of the entirety of § 51.40. Specifically, § 51.40(c) has been misunderstood to suggest that in order for a portion of a park area to be determined “backcountry” for purposes of 36 CFR part 51, the area must be inaccessible by motorized vehicle.

This is not the meaning of § 51.40. Rather, the section is intended to mean that the accessibility of a portion of a park area to motorized vehicles is only one consideration that may be taken into account in determining the existence of “backcountry” for purposes of determining which concession contracts are outfitter and guide contracts under 36 CFR part 51. As stated in § 51.40, determinations as to whether outfitter and guide operations are conducted in the backcountry of a park area are made on a park-by-park basis, taking into account the park area's particular geographic circumstances. Accessibility of an area by motorized vehicles is only a possible consideration in this determination.

In order to correct the confusion caused by § 51.40(c), the National Park Service has determined to delete 36 CFR 51.40(c) as confusing and unnecessary. The overall intentions of § 51.40 remain the same with the deletion of § 51.40(c), as § 51.40(a) continues to provide that remoteness from roads and developed areas is a possible factor in determining “backcountry” for purposes of 36 CFR part 51.

In addition, § 51.46 of the final regulation contains a typographical error, the inadvertent inclusion of the date “May 17, 2000,” in its text.

List of Subjects in 36 CFR Part 51

Concessions, Government contracts, National parks, Reporting and recordkeeping requirements.

Accordingly, 36 CFR part 51 is corrected by making the following correcting amendments:

PART 51—CONCESSION CONTRACTS

1. The authority citation for part 51 continues to read as follows:

Authority: The Act of August 25, 1916, as amended and supplemented, 16 U.S.C. 1 et seq., particularly, 16 U.S.C. 3 and Title IV of the National Parks Omnibus Management Act of 1998 (Pub. L. 105-391).

§ 51.40 [Amended]

2. In § 51.40, paragraph (c) is removed.

3. In § 51.40, paragraphs (d) and (e) are redesignated as paragraphs (c) and (d).

4. In § 51.46, the last sentence is corrected by removing the date “May 17, 2000”.

Dated: August 30, 2000.
Cynthia Orlando,
Acting Associate Director, Park Operations and Education.

[FR Doc. 00-22859 Filed 9-6-00; 8:45 am]

BILLING CODE 4310-70-P